DEPARTMENT OF HOMELAND SECURITY

Coast Guard

33 CFR Part 165

[Docket No. USCG-2017-0679]

Safety Zone; North Atlantic Ocean, Ocean City, NJ

AGENCY: Coast Guard, DHS.

ACTION: Notice of enforcement of regulation.

SUMMARY: The Coast Guard will enforce the North Atlantic Ocean, Ocean City, NJ, safety zone from 9:00 p.m. through 11:59 p.m. on October 10, 2017. This action is necessary to ensure safety of life on the navigable waters of the United States immediately prior to, during, and immediately after a fireworks display event. During the enforcement period, and in accordance with the safety zone, no vessel or person may enter, transit through, anchor in, or remain within the regulated area unless authorized by the Captain of the Port Delaware Bay or a designated representative.

DATES: The regulations in 33 CFR 165.506 will be enforced from 9:00 p.m. to 11:59 p.m. on October 10, 2017, for the safety zone listed as (a.)11 in the Table to § 165.506.

FOR FURTHER INFORMATION CONTACT: If you have questions about this notice of enforcement, you may call or email MST2 Amanda Boone, Sector Delaware Bay Waterways Management Division, U.S. Coast Guard; telephone 215-271-4889, email Amanda.N.Boone@USCG.mil.

SUPPLEMENTARY INFORMATION: The Coast Guard will enforce the safety zone at 33 CFR 165.506, Table to § 165.506, (a.)11 for the regulated area located on the North Atlantic Ocean near Ocean City, NJ, from 9:00 p.m. to 11:59 p.m. on October 10, 2017. This action is necessary to ensure safety of life on U.S. navigable waterways during a fireworks display.

Coast Guard regulations for recurring fireworks displays within Captain of the Port Delaware Bay Zone appear in § 165.506, Safety Zones; Fireworks Displays in the Fifth Coast Guard District, which specifies the location for this regulated area as all waters of the North Atlantic Ocean within a 500 yard radius of the fireworks barge in approximate location latitude 39°16′22″ N., longitude 074°33′54″ W., in the vicinity of the shoreline at Ocean City, NJ.

As specified in § 165.506, during the enforcement period, no vessel or person may enter, transit through, anchor in, or remain within the regulated area unless authorized by the Captain of the Port Delaware Bay or a designated representative. If permission is granted, all persons and vessels shall comply with the instructions of the COTP, designated representative or Patrol Commander.

This notice of enforcement is issued under authority of 33 CFR 165.506 and 33 U.S.C. 1233. The Coast Guard will provide the maritime community with advanced notice of enforcement of regulation by Broadcast Notice to Mariners (BNM), Local Notice to Mariners and on-scene notice by a designated representative.

In the event the Captain of the Port, Delaware Bay determines that it's not necessary to enforce the regulated area for the entire duration of the enforcement period, a BNM will be issued to authorize general permission to enter the regulated area.

Dated: August 1, 2017.
Scott E. Anderson,
Captain, U.S. Coast Guard, Captain of the Port Delaware Bay.

[FR Doc. 2017-16506 Filed 8-4-17; 8:45 am]

BILLING CODE 9110-04-P